FEDERAL RETIREMENT THRIFT INVESTMENT

Board Member Meeting

77 K Street NE, 10th Floor, Washington, DC 20002

March 25, 2019, 8:30 a.m.

Open Session

1. Approval of the Minutes of the February 25, 2019 Board Meeting

2. Monthly Reports

(a) Participant Activity Report

(b) Legislative Report

(c) Investment Performance

3. Quarterly Report: Vendor Risk Management Update

4. Office of External Affairs Annual Report

5. Additional Withdrawals Project Update

Closed Session

Information covered under 5 U.S.C. 552b(c)(4) and (c)(9)(B).

Contact Person for More Information: Kimberly Weaver, Director, Office of External Affairs, (202) 942-1640.

Dated: March 15, 2019.
Megan Grumbine,
General Counsel, Federal Retirement Thrift Investment Board.

[FR Doc. 2019-05375 Filed 3-20-19; 8:45 am]

BILLING CODE 6760-01-P